DEPARTMENT OF LABOR

Employee Benefits Security Administration

[Exemption Application Numbers: D-11393 and D-11394]

Proposed Individual Exemptions for Paul Niednagel IRAs and Lynne Niednagel IRAs (Collectively, the IRAs), Located in Laguna Niguel, CA

AGENCY: Employee Benefits Security Administration, Department of Labor (the Department).

ACTION: Notice of technical correction.

On June 1, 2007, the Department published in the Federal Register (72 FR 30637) a Notice of Proposed Exemption (the Notice) which would permit the purchase (the Purchase) by the respective IRAs of Paul and Lynne Niednagel (the Account Holders) of certain ownership interests (the Units) from Pacific Island Investment Partners, LLC (Pacific Island) (the issuer of the Units), an entity which is indirectly controlled by Daniel and Stephen Niednagel (the Principals), both of whom are lineal descendents of the Account Holders and therefore disqualified persons with respect to the IRAs. The Notice was filed on behalf of the Account Holders.

With respect to the information contained in the Summary of Facts and Representations section of the Notice, footnote number 4 located at the bottom of the second column on page 30638 should be corrected to read as follows:

“** The Department notes that a divergence of interests may develop over time between (1) the IRAs and the IRA fiduciaries in their capacities as individuals, or (2) the IRAs and other persons in which the IRA fiduciaries, in their individual capacities, may have an interest. In the event that such a divergence of interests develops, the IRA fiduciaries would be required to take steps to eliminate the conflict of interest in order to avoid engaging in a prohibited transaction.”

FOR FURTHER INFORMATION CONTACT: Mr. Mark Judge or Mr. Laurence Lux, Office of Exemption Determinations, Employee Benefits Security Administration, U.S. Department of Labor, Washington, DC at (202) 693-8339 or (202) 693-8555, respectively (these are not toll-free numbers).

Signed at Washington, DC, this 1st day of June, 2007.
Ivan Strasfeld,
Director of Exemption Determinations, Employee Benefits Security Administration, U.S. Department of Labor.

[FR Doc. E7-10917 Filed 6-6-07; 8:45 am]

BILLING CODE 4510-29-P